SECURITIES AND EXCHANGE COMMISSION

[SEC File No. 270-818, OMB Control No. 3235-0774]

Proposed Collection; Comment Request; Extension: Amendments to the National Market System Plan Governing the Consolidated Audit Trail

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in connection with amendments ¹ adopted pursuant to the statutory authority provided by the Securities Exchange Act of 1934, ² including sections 11A(a)(3)(B),³ 17(a),⁴ 19(b),⁵ and 23(a) ⁶ thereof, and pursuant to Rule 608(a)(2) and (b)(2),⁷ to a National Market System (NMS) Plan filed with the Commission under Rule 613 (17 CFR 242.613), under the Securities Exchange Act of 1934 (15 U.S.C. 78a et seq.). The Commission plans to submit this existing collection of information to the Office of Management and Budget (“OMB”) for extension and approval.

¹ See Securities Exchange Act Release No. 88890 (May 15, 2020), 85 FR 31322 (May 22, 2020) (File No. S7-13-19) (“Adopting Release”).

² See 15 U.S.C. 78a et seq.

³ See 15 U.S.C. 78k-1(a)(3)(B).

⁴ See 15 U.S.C. 78q(a).

⁵ See 15 U.S.C. 78s(b).

⁶ See 15 U.S.C. 78w(a).

⁷ See 17 CFR 242.608(a)(2), (b)(2).

The amendments, as adopted, required two new collections of information:

a. Implementation Plan. The amendments require the Participants, within 30 calendar days following the effective date of the amendments, to prepare, file with the Commission, and make publicly available on a website a complete CAT implementation plan (“Implementation Plan”) that includes a detailed timeline for achieving various implementation milestones.

b. Quarterly Progress Reports. The amendments require the Participants, within 30 calendar days after the end of each calendar quarter, to prepare, file with the Commission, and make publicly available on a website a complete report (the “Quarterly Progress Report”) that provides a detailed and up-to-date description of the progress made by the Participants toward each of the milestones identified in the Implementation Plan.

The one-time information collection associated with the Implementation Plan was completed by the Participants, so there will be no further burdens associated with the Implementation Plan. The Quarterly Progress Report information collection continues.

There are currently 25 Participants who must complete four Quarterly Progress Reports per year. The Commission staff estimates that, on the average, most Quarterly Progress Reports require approximately 72 hours per Participant, and cost approximately $8,000 per Participant. The Commission staff estimates Participants spend a total of approximately 7,200 hours per year (25 × 4 × 72) and $800,000 per year (25 × 4 × $8,000) complying with the rule.

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by July 10, 2023.

An agency may not conduct or sponsor, and a person is not required to respond to, a collection of information under the PRA unless it displays a currently valid OMB control number.

Please direct your written comments to: David Bottom, Director/Chief Information Officer, Securities and Exchange Commission, c/o John Pezzullo, 100 F Street NE, Washington, DC 20549, or send an email to: PRA_Mailbox@sec.gov.

Dated: May 5, 2023.
J. Matthew DeLesDernier,
Deputy Secretary.

[FR Doc. 2023-09997 Filed 5-10-23; 8:45 am]

BILLING CODE 8011-01-P